NUCLEAR REGULATORY COMMISSION

[Docket No. 50-285; NRC-2018-0268]

Omaha Public Power District, Fort Calhoun Station, Unit No. 1, Partial Site Release

AGENCY: Nuclear Regulatory Commission.

ACTION: Partial site release; public meeting and request for comment.

SUMMARY: The U.S. Nuclear Regulatory Commission (NRC) is considering two requests from the Omaha Public Power District (OPPD) to approve the release of land areas, under the control of the NRC power reactor license for the Fort Calhoun Station, Unit No. 1 (FCS), License No. DPR-40, of portions of their owned-controlled property and an easement-controlled land area for unrestricted use. The NRC will review the requests and the result of NRC confirmatory surveys of the properties proposed for release. Approval of the request would allow OPPD to sell the released portion of the owner-controlled property, to the north and west of the plant in Nebraska, and to release the easement on the other property, to the north and east of the plant, in Iowa. The NRC is soliciting public comment on the requested actions and invites stakeholders and interested persons to participate. The NRC plans to hold a public meeting to promote full understanding of the requested actions and to facilitate public comment.

DATES: Submit comments by December 26, 2018. Comments received after this date will be considered if it is practical to do so, but the Commission is able to ensure consideration only for comments received before this date. A public meeting will be held on November 28, 2018.

ADDRESSES: You may submit comments by any of the following methods:

• Federal Rulemaking website: Go to http://www.regulations.gov and search for Docket ID NRC-2018-0268. Address questions about Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Jack Parrott, Office of Nuclear Material Safety and Safeguards, U.S. Nuclear Regulatory Commission, Washington, DC 20555-0001; telephone: 301-415-6634; email: Jack.Parrott@nrc.gov.

SUPPLEMENTARY INFORMATION:

I. Obtaining Information and Submitting Comments

A. Obtaining Information

Please refer to Docket ID NRC-2018-0268. You may obtain publicly-available information related to this action by any of the following methods:

• Federal Rulemaking website: Go to http://www.regulations.gov and search for Docket ID NRC-2018-0268.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The “Fort Calhoun Station, Unit 1—Request for Partial Site Release” and “Fort Calhoun Station, Unit 1—Request for Partial Site Release Phase 2” are available in ADAMS under Nos. ML18215A187 and ML18316A036, respectively.

• NRC's PDR: You may examine and purchase copies of public documents at the NRC's PDR, Room O1-F21, One White Flint North, 11555 Rockville Pike, Rockville, Maryland 20852.

B. Submitting Comments

Please include Docket ID NRC-2018-0268. The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC has received two requests for approval of partial site releases from the Omaha Public Power District (OPPD or licensee), by letters dated June 29, 2018 (ADAMS Accession No. ML18215A187) and November 12, 2018 (ADAMS Accession No. ML18316A036). The requests seek approval for release for unrestricted use of a portion of the Fort Calhoun Station, Unit No. 1 (FCS) site located at 9610 Power Lane, Blair, Nebraska. The first proposed release area is a 120-acre portion on the north and west side of the licensee-controlled facility property, wholly within the State of Nebraska. The second proposed release area involves a 475-acre parcel of land north and east of the site, located on the banks of the Missouri River on the Iowa side of the Iowa-Nebraska border, on which the licensee currently has an easement and that is part of the exclusion area of the plant.

The FCS license (NRC License No. DPR-40, Docket No. 50-285) is for a power reactor under part 50, “Domestic Licensing of Production and Utilization Facilities,” of title 10 of the Code of Federal Regulations (10 CFR). The facility was certified as permanently shut down, per NRC regulations in 10 CFR 50.82(a), by letter dated November 13, 2016. FCS is currently in “SAFSTOR” decommissioning mode awaiting the termination of the power reactor license.

The licensee requests release from the NRC license, for unrestricted use, of two portions of the site under 10 CFR 50.83, “Release of Part of a Power Reactor Facility or Site for Unrestricted Use.” The licensee is declaring these portions of the site to be “non-impacted” as defined in 10 CFR 50.2. Approval of the request would, for example, allow OPPD to sell a released portion to a non-OPPD controlled entity.

As described in 10 CFR 50.83(c), the NRC will determine whether the licensee has adequately evaluated the effect of releasing the properties per the requirements of 10 CFR 50.83(a)(1), determine whether the licensee's classification of any released areas as “non-impacted” is adequately justified, and if the NRC determines that the licensee's submittal is adequate, the NRC will inform the licensee in writing that the release is approved.

III. Public Meeting

The NRC will conduct a public meeting to discuss OPPD's request for approval of the partial site release. The meeting will be held on Wednesday, November 28, 2018, from 7:00 p.m. until 8:30 p.m., Central Standard Time, at the Residence Inn Omaha Downtown/Old Market Area, 106 South 15th St., Omaha, NE 68102.

This is a Category 3 public meeting where stakeholders are invited to fully engage NRC staff to provide a range of views, information, concerns and suggestions with regard to regulatory issues. After the licensee and NRC staff presentation portion of the meeting, the public is allowed to speak and ask questions. Comments can be provided orally or in writing to the NRC staff present at the meeting.

Stakeholders should monitor the NRC's public meeting website for information about the public meeting at: http://www.nrc.gov/public-involve/public-meetings/index.cfm. The agenda will be posted no later than 10 days prior to the meeting.

Dated at Rockville, Maryland, this 20th day of November, 2018.
For the Nuclear Regulatory Commission.
Andrea Kock,
Acting Director, Division of Decommissioning, Uranium Recovery, and Waste Programs, Office of Nuclear Material Safety and Safeguards.

[FR Doc. 2018-25666 Filed 11-23-18; 8:45 am]

BILLING CODE 7590-01-P